DEPARTMENT OF ENERGY

Office of Energy Efficiency and Renewable Energy

Hydrogen and Fuel Cell Technical Advisory Committee (HTAC)

AGENCY: Department of Energy, Office of Energy Efficiency and Renewable Energy.

ACTION: Notice of open meeting.

SUMMARY: The Hydrogen and Fuel Cell Technical Advisory Committee (HTAC), established under the Energy Policy Act of 2005 (EPACT), Pub. L. 109-190, will hold its next meeting on January 9-10, 2007. The Federal Advisory Committee Act (Pub. L. No. 92-463, 86 Stat. 770) requires that agencies publish these notices in the Federal Register to allow for public participation. To attend the meeting and/or to make oral statements regarding any of the items on the agenda, e-mail HTAC.Committee@ee.doe.gov at least 5 business days before the meeting.

DATES: The meeting will begin on January 9, 2007, at 9 a.m. and will conclude at 11:45 a.m. on January 10, 2007.

ADDRESSES: U.S. Department of Energy, Room 1E-245, 1000 Independence Ave., SW., Washington, DC 20585.

FOR FURTHER INFORMATION CONTACT: HTAC.Committee@ee.doe.gov.

SUPPLEMENTARY INFORMATION: Purpose of Meeting: To provide advice, information, and recommendations to the Secretary on the program authorized by Title VIII, Hydrogen, of EPACT.

Tentative Agenda (Subject to change; agenda updates will be posted on hydrogen.energy.gov). The following items will be covered on the agenda:

• Review and approval of minutes from conference call on November 17, 2006.

• Review of HTAC's Deliverables and Milestones.

• Transportation White Paper prepared by an ad-hoc group of multiple companies.

• Portable and Stationary Applications White Paper prepared by HTAC members.

• Presentation on DOE Infrastructure Activities.

• Transitioning to a hydrogen economy.

• DOE Hydrogen Posture Plan.

• HTAC Subcommittees.

• Public Comment Period (10:15-11:15 on Wednesday January 10, 2007).

Public Participation: In keeping with procedures, members of the public are welcome to observe the business of HTAC and to make oral statements during the specified period for public comment. To attend the meeting and/or to make oral statements regarding any of the items on the agenda, e-mail HTAC.Committee@ee.doe.gov at least 5 business days before the meeting. (Please indicate if you will be attending the meeting both days or just one day.) Members of the public will be heard in the order in which they sign up for the Public Comment Period. Oral comments should be limited to two minutes in length. Reasonable provision will be made to include the scheduled oral statements on the agenda. The Chair of the Committee will make every effort to hear the views of all interested parties and to facilitate the orderly conduct of business. If you would like to file a written statement with the Committee, you may do so either before or after the meeting (electronic and hard copy).

Minutes: The minutes of the meeting will be available for public review and copying at the Freedom of Information Public Reading Room; Room 1E-190, Forrestal Building, 1000 Independence Avenue, SW., Washington, DC 20585, between 9 a.m. and 4 p.m., Monday through Friday, except Federal holidays.

Issued at Washington, DC on December 15, 2006.
Rachel Samuel,
Deputy Advisory Committee Management Officer.

[FR Doc. E6-21753 Filed 12-19-06; 8:45 am]

BILLING CODE 6450-01-P